DEPARTMENT OF HEALTH AND HUMAN SERVICES

Centers for Disease Control and Prevention

Adapting Clinical Guidelines for the Digital Age Meeting

AGENCY: Centers for Disease Control and Prevention (CDC), Department of Health and Human Services (HHS).

ACTION: Notice of meeting.

SUMMARY: The Centers for Disease Control and Prevention (CDC) announces the Adapting Clinical Guidelines for the Digital Age meeting. Adapting Clinical Guidelines for the Digital Age is an initiative to improve patient care and health outcomes by working to ensure that clinical guidelines are not only evidence-based but also are used in practice. Because there are multiple roles in developing and disseminating clinical guidelines, it is important to get a comprehensive understanding of the current challenges in translating guidelines in order to develop a standardized process for the future. The meeting will use the Kaizen approach to ensure stakeholder perspectives and experiences along the clinical guideline continuum are collected. Kaizen focuses on continuous improvement by bringing together stakeholders to gather individual perspectives and experiences so that improvements can be made to a specific area of focus in a process. Additional information about Kaizen is available at the Electronic Clinical Quality Improvement Resource Center website (https://ecqi.healthit.gov/ecqi/kaizen). The scope of the meeting will encompass the following: Gathering individual perspectives and experiences about guideline creation and summarizing the evidence; informatics framework for guideline translation; dissemination modalities and communication methods; translation and implementation support; and evidence.

DATES: The meeting will be held February 5-9, 2018, from 9:00 a.m. to 5:00 p.m. EST each day.

ADDRESSES: The meeting will be held at the Centers for Disease Control and Prevention's Century Center Campus, 2500 Century Parkway, Atlanta, GA 30345. You should be aware that the meeting location is in a Federal government facility; therefore, Federal security measures are applicable. For additional information, please see CDC Security Guidelines under SUPPLEMENTARY INFORMATION. Information regarding meeting logistics will be available on the “Adapting Clinical Guidelines for the Digital Age” website (https://wwwdev.cdc.gov/ophss/WhatWeDoACG.html) closer to the date of the meeting.

Meeting Accessibility: This meeting is open to the public, limited only by space availability. All in-person meeting attendees must RSVP to the point-of-contact in the FOR FURTHER INFORMATION CONTACT section by January 17, 2018 to ensure the required security procedures are completed to gain access to CDC facilities. Failure to RSVP by the dates identified could result in the inability to attend the meeting due to the strict security regulations on federal facilities. Due to space limitations, we are unable to honor all requests. Registrants for the in-person meeting will be notified by email that their registration has been confirmed. The intent is to have equal representation of individuals to ensure that a wide variety of individual perspectives and experiences are collected.

Public Comment: The opportunity for public comment will be available during the full-group portions of the meeting. Individuals wishing to make public comments must indicate their desire to do so in advance by providing their name, organizational affiliation, and the topic to be addressed with their RSVP.

Meeting Accessibility: This meeting is available to the public via Webcast. Live captioning will also be available. The Webcast URL will be sent to registrants upon receipt of their RSVP. All webcast meeting participants must RSVP by January 17, 2018 to receive the webcast information, which will be emailed to them by Maria Michaels (maria.michaels@cdc.gov).

FOR FURTHER INFORMATION CONTACT: Maria Michaels, Office of the Director; Office of Public Health Scientific Services; Centers for Disease Control and Prevention, 1600 Clifton Road, MS-E-33, Atlanta, GA 30333, phone: (404) 498-0997, email: maria.michaels@cdc.gov.

SUPPLEMENTARY INFORMATION:

Purpose: The purpose of the meeting is for CDC and stakeholders to help obtain a better understanding of how potential changes to clinical guideline translation might impact clinicians, electronic health record vendors, professional organizations, clinical decision support developers, federal partners, public health partners, standard developers, and CDC programs.

Proposed discussion topics*: The different stages of guideline translation; guideline dissemination; guideline adoption; how the guideline development, dissemination, and translation process works; and how potential changes to the current process would impact stakeholders.

* Pending final approval of review preparations.

Century Center Campus Security Guidelines: The CDC Century Center Campus is located at 2500 Century Parkway NE, Atlanta, GA 30345. The meeting is being held in a Federal government facility; therefore, Federal security measures are applicable.

All meeting attendees must RSVP by the dates outlined under MEETING ACCESSIBILITY. In planning your arrival time, please take into account the need to park and clear security. Upon arrival at the facility, visitors must present government-issued photo identification (e.g., a valid federal identification badge, state driver's license, state non-driver's identification card, or passport). Non-United States citizens must complete the required security paperwork prior to the meeting date and must present a valid passport, visa, Permanent Resident Card, or other type of work authorization document upon arrival at the facility. Security clearance for non-United States citizens requires a minimum of 10 business days to process. All persons entering the building must pass through a metal detector. Visitors will be issued a visitor's ID badge and may be escorted to the meeting room. All items brought to HHS/CDC are subject to inspection.

Dated: January 4, 2018.
Lauren Hoffmann,
Acting Executive Secretary, Centers for Disease Control and Prevention.

[FR Doc. 2018-00203 Filed 1-8-18; 8:45 am]

BILLING CODE 4163-18-P